DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 19, 2009. Address written comments to Statutory Import Programs Staff, Room 3720, U.S. Department of Commerce, Washington, D.C. 20230. Applications may be examined between 8:30 A.M. and 5:00 P.M. at the U.S. Department of Commerce in Room 3720.

Docket Number: 09-051. Applicant: University of Notre Dame, 709 Grace Hall, Notre Dame, IN 46556. Instrument: Electron Microscope. Manufacturer: FEI Company, Czech Republic. Intended Use: The instrument will be used for the fabrication and characterization of nanostructures. This instrument provides the capability of both direct-write fabrication of nanotructures and nanomodified materials by using the 30 keV Ga+ beam to remove material selectively or deposit material by ion-beam induced degradation of gas-phase precursors. Justification for Duty-Free Entry: No instruments of same general category are manufactured in the United States. Application accepted by Commissioner of Customs: August 31, 2009.

Docket Number: 09-052. Applicant: Youngstown State University, One University Plaza, Youngstown, OH 44555. Instrument: Electron Microscope. Manufacturer: JEOL Ltd., Japan. Intended Use: The instrument will be used to study the nonstructural features of materials such as ceramic-metallic composite materials, and how they relate to macroscopic properties such as strength and resistance to corrosion. Justification for Duty-Free Entry: No instruments of same general category are manufactured in the United States. Application accepted by Commissioner of Customs: September 4, 2009.

Docket Number: 09-053. Applicant: University of Notre Dame, 709 Grace Hall, Notre Dame, IN 46556. Instrument: Electron Microscope. Manufacturer: FEI Company, the Netherlands. Intended Use: The instrument will be used for the fabrication and characterization of nanostructures. This instrument provides the capability of both direct-write fabrication of nanotructures and nanomodified materials by using the 30 keV Ga+ beam to remove material selectively or deposit material by ion-beam induced degradation of gas-phase precursors. Justification for Duty-Free Entry: No instruments of same general category are manufactured in the United States. Application accepted by Commissioner of Customs: September 9, 2009.

Docket Number: 09-054. Applicant: University of Nebraska Medical Center, 986395 Nebraska Medical Center, Omaha, NE 68198. Instrument: Electron Microscope. Manufacturer: FEI Company, Czech Republic. Intended Use: The instrument will be used to study biological (e.g., human biopsy material and various animal tissues) as well as non-biological materials (e.g., nanoparticles). In studying these materials, the instrument will be used in techniques such as fixation, embedding, sectioning and staining. Justification for Duty-Free Entry: No instruments of same general category are manufactured in the United States. Application accepted by Commissioner of Customs: September 11, 2009.

Dated: September 22, 2009.
Christopher D. Cassel,
Director.
IA Subsidies Enforcement Office.

[FR Doc. E9-23383 Filed 9-25-09; 8:45 am]

BILLING CODE 3510-DS-S